DEPARTMENT OF COMMERCE

National Oceanic and Atmospheric Administration

[I.D. 011707E]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on February 6-8, 2007, to consider actions affecting New England fisheries in the exclusive economic zone (EEZ).

DATES: The meeting will be held on Tuesday, February 6 beginning at 1 p.m., and Wednesday and Thursday, February 7 and 8, beginning at 8:30 a.m. each day.

ADDRESSES: The meeting will be held at the Sheraton Harborside Hotel, 250 Market Street, Portsmouth, NH 03801; telephone: (603) 431-2300.

Council address: New England Fishery Management Council, 50 Water Street, Mill 2, Newburyport, MA 01950.

FOR FURTHER INFORMATION CONTACT: Paul J. Howard, Executive Director, New England Fishery Management Council, telephone: (978) 465-0492.

SUPPLEMENTARY INFORMATION:

Tuesday, February 6, 2007

Following introductions, the Council will hear a series of brief reports from the Council Chairman and Executive Director, the NOAA Northeast Regional Administrator, Northeast Fisheries Science Center and Mid-Atlantic Fishery Management Council liaisons, NOAA General Counsel and representatives of the U.S. Coast Guard, NOAA Enforcement, and the Atlantic States Marine Fisheries Commission. Following these reports, the Council will have a general discussion about at-sea processing vessels, including potential monitoring, reporting, observer and Vessel Monitoring System (VMS) requirements. Changes to Council processes and procedures as a result of reauthorization of the Magnuson-Stevens Fishery Conservation and Management Act will then be reviewed. The day will conclude with a report from the Council's Enforcement Committee. Its chair will discuss committee progress to develop recommendations concerning the use of VMS and other tools to address safety-at sea, regulatory compliance, and other fishery management-related activities.

Wednesday, February 7, 2007

During the morning session, the Council will receive a report on the comments received in response to public hearings held to consider standardized bycatch reporting methodology alternatives. The Council will also hold a hearing on Amendment 13 to the Sea Scallop Fishery Management Plan. The intent is to provide an opportunity for the public to comment on the establishment of a mechanism to reactivate the industry-funded observer program in the scallop fishery. The hearing will be followed by final action on the amendment. The Council will then discuss the alternatives identified in Amendment 11 to the Scallop Plan, some of which may be affected by provisions in the newly reauthorized Magnuson-Stevens Act. The Council will hear an update concerning the status of five stocks of small mesh multispecies whiting, red hake and offshore hake. The briefing also will address issues related to the development of the next small mesh multispecies amendment. An open period for the public to address any other Council-related business will be provided at this point in the day. During the afternoon session of the meeting, the Trawl Survey Committee will seek approval of recommendations related to the FSV Henry Bigelow, soon to be deployed in the Northeast Region. At the end of the day, the Council plans to review and approve Phase I of the Essential Fish Habitat Draft Supplemental Environmental Impacts Statement.

Thursday, February 8, 2007

The Council's Research Steering Committee Chairman will report on the committee's recommendations concerning the use of information provided in several cooperative research final reports. This will be followed by a discussion of other issues related to cooperative research, including the future use of industry-based surveys. There will be a presentation on the results of the 44th Northeast Regional Stock Assessment Workshop. The status of surf clams, ocean quahogs, and the skate complex will be reviewed. The Groundfish Committee will provide a report to the Council on scoping comments received for Amendment 16 to the Northeast Multispecies Fishery Management Plan. The Council will consider committee recommendations concerning alternatives to be developed, including input from the on the Recreational Advisory Panel.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 18, 2007.
Tracey L. Thompson,
Acting Director, Office of Sustainable Fisheries, National Marine Fisheries Service
.

[FR Doc. E7-934 Filed 1-22-07; 8:45 am]

BILLING CODE 3510-22-S